DEPARTMENT OF TRANSPORTATION

Federal Aviation Administration

14 CFR Part 39

[Docket No. 96-ANE-40-AD]

Airworthiness Directives; Hartzell Propeller Inc. ( )HC-( )(2,3)(X,V)( )-( ) Series and HA-A2V20-1B Series Propellers with Aluminum Blades

AGENCY: Federal Aviation Administration, DOT.

ACTION: Notice of proposed rulemaking (NPRM).

SUMMARY: The Federal Aviation Administration (FAA) proposes to revise an existing airworthiness directive (AD), applicable to Hartzell Propeller Inc. ( )HC-( )(2,3)(X,V)( )-( ) series and HA-A2V20-1B series propellers with aluminum blades. That AD currently requires initial and repetitive dye penetrant and eddy current inspections of the blade and an optical comparator inspection of the blade retention area, and, if necessary, replacement with serviceable parts. In addition, that AD currently requires initial and repetitive visual and magnetic particle inspection of the blade clamp, dye penetrant inspection of the blade internal bearing bore, and, if necessary, replacement with serviceable parts. Also, for all HC-(1,4,5,8)(2,3)(X,V)( )-( ) steel hub propellers, that AD currently requires an additional initial and repetitive visual and magnetic particle inspection of the hub, and, if necessary, replacement with serviceable parts. This proposal would revise that AD by introducing as an optional terminating action for the initial and repetitive inspections of that AD, replacement of affected propellers with Hartzell Propeller Inc. model “MV” series propellers. This proposal is prompted by type certification approval of the Hartzell “MV” series propellers that are direct replacements for the affected propellers, and service bulletin approval to allow modification of affected propellers to the “MV” type design configuration. The Hartzell “MV” series propellers were certified as Hartzell propeller models ( )HC-( )(2,3)MV( )-( ) and HA-A2MV20-1B. The actions specified by the proposed AD are intended to prevent blade separation due to cracked blades, hubs, or blade clamps, which can result in loss of control of the airplane.

DATES: Comments must be received by March 3, 2003.

ADDRESSES: Submit comments in triplicate to the Federal Aviation Administration (FAA), New England Region, Office of the Regional Counsel, Attention: Rules Docket No. 96-ANE-40-AD, 12 New England Executive Park, Burlington, MA 01803-5299. Comments may be inspected at this location, by appointment, between 8 a.m. and 4:30 p.m., Monday through Friday, except Federal holidays. Comments may also be sent via the Internet using the following address: 9-ane-adcomment@faa.gov. Comments sent via the Internet must contain the docket number in the subject line.

The service information referenced in the proposed rule may be obtained from Hartzell Propeller Inc., One Propeller Place, Piqua, OH 45356-2634, ATTN: Product Support; telephone (937) 778-4200, fax (937) 778-4321. This information may be examined, by appointment, at the FAA, New England Region, Office of the Regional Counsel, 12 New England Executive Park, Burlington, MA.

FOR FURTHER INFORMATION CONTACT: Tomaso DiPaolo, Aerospace Engineer, Chicago Aircraft Certification Office, FAA, Small Airplane Directorate, 2300 East Devon Ave., Des Plaines, IL 60018; telephone (847) 294-7031, fax (847) 294-7834.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 96-ANE-40-AD.” The postcard will be date stamped and returned to the commenter.

Availability of NPRM's

Any person may obtain a copy of this NPRM by submitting a request to the FAA, New England Region, Office of the Regional Counsel, Attention: Rules Docket No. 96-ANE-40-AD, 12 New England Executive Park, Burlington, MA 01803-5299.

Discussion

On August 15, 1997, the Federal Aviation Administration (FAA) issued airworthiness directive (AD) 97-18-02, Amendment 39-10112 (62 FR 45309, August 27, 1997), applicable to Hartzell Propeller Inc. ( )HC-( )(2,3)(X,V)( )-( ) series propellers and HA-A2V20-1B series propellers, to require initial and repetitive dye penetrant and eddy current inspections of the blade and an optical comparator inspection of the blade retention area, and, if necessary, replacement with serviceable parts. In addition, that AD was issued to require initial and repetitive visual and magnetic particle inspections of the blade clamp, dye penetrant inspections of the blade internal bearing bore, and, if necessary, replacement with serviceable parts. Also, that AD was issued to require for all HC-(1,4,5,8)(2,3)(X,V)( )-( ) steel hub propellers, an additional initial, and repetitive visual and magnetic particle inspections of the hub and, if necessary, replacement with serviceable parts. That action was prompted by reports of cracked blades, blade clamps, and hubs and reports of blade separations. That condition, if not corrected, could result in loss of control of the airplane.

Hartzell Certification Efforts To Create Optional Terminating Action To Address AD 97-18-02

Since issuance of that AD, Hartzell Propeller Inc. has received type certification approval of the Hartzell “MV” series of propellers that are direct replacements for the affected propellers. The Hartzell “MV” series propellers were certified as Hartzell propeller models ( )HC-( )(2,3)MV( )-( ) and HA-A2MV20-1B. Also, Hartzell Propeller Inc. service bulletins (SB's) HC-SB-61-232, dated March 20, 1998, and HC-SB-61-233, dated April 17, 1998, have been approved to allow modification of affected propellers to the “MV” type design configuration. This proposal would introduce as an optional terminating action, for the initial and repetitive inspections of this proposal, replacement of affected propellers with Hartzell Propeller Inc. model “MV” series propellers.

Manufacturer's Service Information

The FAA has reviewed and approved the technical contents of Hartzell Propeller Inc. SB No. HC-SB-61-217, Revision 1, dated July 11, 1997, that describes procedures for fluorescent dye penetrant and eddy current inspections of the blade and an optical comparator inspection of the blade retention area, and, if necessary, replacement with serviceable parts. In addition, this SB describes procedures for visual and magnetic particle inspection of the blade clamp, dye penetrant inspection of the blade internal bearing bore and, if necessary, replacement with serviceable parts. For all HC-(1,4,5,8)(2,3)(X,V)( )( ) steel hub propellers, this SB describes an additional visual and magnetic particle inspection of the hub, and, if necessary, replacement with serviceable parts.

FAA's Determination of an Unsafe Condition and Proposed Actions

Since an unsafe condition has been identified that is likely to exist or develop on other Hartzell Propeller Inc. ( )HC-( )(2,3)(X,V)( )-( ) series and HA-A2V20-1B series propellers of this same type design, the proposed AD would revise AD 97-18-02 to continue to require:

• Initial and repetitive dye penetrant and eddy current inspections of the blade and an optical comparator inspection of the blade retention area, and, if necessary, replacement with serviceable parts.

• Initial and repetitive visual and magnetic particle inspection of the blade clamp, and, if necessary, replacement with serviceable parts.

• Initial and repetitive dye penetrant inspection of the blade internal bearing bore, and, if necessary, replacement with serviceable parts.

• For all HC-(1,4,5,8)(2,3)(X,V)( )-( ) steel hub propellers, an additional initial and repetitive visual and magnetic particle inspection of the hub, and, if necessary, replacement with serviceable parts.

• A reporting requirement to obtain additional data and determine if adjustment can be made to the repetitive inspection intervals, with possible relief.

This proposal also adds as an optional terminating action for the initial and repetitive inspections of this proposal, replacement of affected propellers with Hartzell Propeller Inc. model MV propellers.

Economic Analysis

Since the proposed revision to AD 97-18-02 is to add an optional terminating action, the total cost of the proposed revised AD on U.S. operators can be estimated to be $0.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10112 (62 FR 45309, August 27, 1997), and by adding a new airworthiness directive, to read as follows:

Hartzell Propeller Inc.: Docket No. 96-ANE-40-AD. Revises AD 97-18-02, Amendment 39-10112.

Applicability: This airworthiness directive (AD) is applicable to Hartzell Propeller Inc. ( )HC-( )(2,3)(X,V)( )-( ) series and HA-A2V20-1B series propellers with aluminum blades. These propellers are installed on but not limited to the aircraft listed in the following Table 1:

Table 1.—Affected Aircraft
Manufacturer | Aircraft model
Aero Commander (Twin Commander) | 500 500A 500B, 500S, and 500U 520 560 560A, 560E 680, 680E, 720 680F, 680FP, 680FL, 680FLR B1 (Callair)
Aeromere | Falco F.8.L
Aeronautica Macchi | AL60-F5 AM-3
Bauger | Sail Plane
Beech | 35 Series Bonanza 35-C33 Debonair 35-C33A, E33A, F33A 50 Series Twin Bonanza 58P, 58TC Baron 95-55, 95-A55, 95-B55 Baron 65, A65, 65-(B)80, 65-A80, A65-8200, 70
Bellanca | 14-13 14-19 14-19-2 14-19-3 7GCA, 7GCB, 7GCC DW-1 Eagle
Camair | 480
Cessna | 170 170A 172 Skyhawk 175 180, A, B, C, D, E, F, G, H 182, A, B, C, D, E, G, H, J, K, L, M 210, A, B, C, 5, 5A 310, A, B, C, D, E, F ,G, H, E310H 320, 320-1 Skyknight 320A, 320B 402 Businessliner 411 Wren 460 Wren 460H, J, K, L, M
deHavilland | DH104 Dove DH114 Heron
Dornier | DO27Q-6 DO28A-1 DO28B-1
Fuji | T-3, LM-2
GAF—Gov't. Aircraft Factories | N22B, N24A, N22S, N22C
Goodyear | (Loral) GA22A Goodyear Blimp GZ19, 19A Goodyear Blimp
Great Lakes | 2T-1A-2
Grumman | G44, G44A Widgeon G21C, D Goose
Helio | H-391 Courier H-391B Courier H-395A Courier
Luscombe | 11 11A
Mooney | M20
Multitech (Temco) | D16 Twin Navion D16A Twin Navion
Nardi | FN-333
Navion | Navion B Navion, Navion A
Pacific Aerospace (Fletcher) | FU-24, FU-24A
Piaggio | P-149D P136-L1 Royal Gull P136-L2 Royal Gull P149D P166 Royal Gull
Pilatus | PC-3 PC-6 PC-6-H1, -H2 Porter
Piper | PA-E23-250 Aztec PA14 Family Cruiser PA18(A)(S)-150 Super Cub PA18A-150 Super Cub PA22-150, PA22S-150 Tripacer PA23 Series Apache PA23-160 Apache PA23-235 Aztec PA23-250 Aztec PA24-250 Comanche PA24-400 Comanche PA24S Comanche PA28 Cherokee PA28-140 Cherokee
Prop Jets Inc. | 200 200A,B,C
Republic (STOL Amphibian) | RC3 Seabee
Scottish Aviation (BAE) | B.206 Series 2 Beagle
Stinson | L-5 108, -1, -2, -3 108-2-3
Sud Aviation (SOCATA) | GY.80-150 Gardan GY.80-160 Gardan Horizon
Swift | GC-1B
Taylorcraft | 20
Texas Bullet | 205
Windecker | Eagle

Note 1: The above is not a complete list of aircraft which may contain the affected Hartzell Propeller Inc. ( )HC-( )(2,3)(X,V)( )-( ) series and HA-A2V20-1B series propellers with aluminum blades because of installation approvals made by, for example, Supplemental Type Certificate or field approval under FAA Form 337 “Major Repair and Alteration.” It is the responsibility of the owner, operator, and person returning the aircraft to service to determine if an aircraft has an affected propeller.

Note 2: The parentheses that appear in the propeller models indicate the presence or absence of additional letter(s) which vary the basic propeller hub model designation. This airworthiness directive is applicable regardless of whether these letters are present or absent on the propeller hub model designation.

Note 3: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Compliance with this AD is required as indicated, unless already done.

To prevent blade separation due to cracked blades, hubs, or blade clamps, which can result in loss of control of the airplane, accomplish the following:

(a) On Hartzell propeller models with hub models ( )HC-(1,4,5,8)(2,3)(X,V)( )-( ) perform initial and repetitive inspections and, if necessary, replace with serviceable parts in accordance with Hartzell Propeller Inc. Service Bulletin (SB) No. HC-SB-61-217, Revision 1, dated July 11, 1997, as follows:

(1) Initially perform a fluorescent dye penetrant and eddy current inspection of the blade, an optical comparator inspection of the blade retention area, a dye penetrant inspection of the blade internal bearing bore, and a visual and magnetic particle inspection of the blade clamp and of the hub. The initial inspection is required within the following:

(i) 1,000 hours time since new (TSN) for propellers with less than 900 hours TSN on September 11, 1997, provided that the initial inspections are performed within 60 calendar months TSN or 24 calendar months after September 11, 1997, whichever calendar time occurs later, or

(ii) 100 hours time in service (TIS) for propellers with 900 or more hours TSN, or unknown TSN, on September 11, 1997, provided that the initial inspections are performed within 24 calendar months after September 11, 1997.

(2) Thereafter, perform repetitive fluorescent dye penetrant and eddy current inspection of the blade, an optical comparator inspection of the blade retention area, and a visual and magnetic particle inspection of the blade clamp. The repetitive inspection is required at intervals not to exceed 500 hours TIS or 60 calendar months, whichever occurs first, since last inspection.

(3) Thereafter, perform a repetitive visual and magnetic particle inspection of the hub. This repetitive hub inspection is required at intervals not to exceed 250 hours TIS or 60 calendar months, whichever occurs first, since last inspection.

(4) Thereafter, perform repetitive dye penetrant inspections of the blade internal bearing bore. This repetitive blade internal bearing bore inspection is required at intervals not to exceed 60 calendar months since last inspection.

(b) On Hartzell propeller models with hub models ( )HC-(A,D)(2,3)(X,V)( )-( ), and HA-A2V20-1B, except HC-A3VF-7( ), perform initial and repetitive inspections and, if necessary, replace with serviceable parts in accordance with Hartzell SB No. HC-SB-61-217, Revision 1, dated July 11, 1997, as follows:

(1) Initially perform a fluorescent dye penetrant and eddy current inspection of the blade, an optical comparator inspection of the blade retention area, a visual and magnetic particle inspection of the blade clamp, and a dye penetrant inspection of the blade internal bearing bore. The initial inspection is required within the following:

(i) 1,000 hours TSN for propellers with less than 800 hours TSN on September 11, 1997, provided that the initial inspections are performed within 60 calendar months TSN or 24 calendar months after September 11, 1997, whichever calendar time occurs later; or

(ii) 200 hours TIS for propellers with 800 or more hours TSN, or unknown TSN, on September 11, 1997, provided that the initial inspections are performed within 24 calendar months after September 11, 1997.

(2) Thereafter, perform repetitive fluorescent dye penetrant and eddy current inspection of the blade, an optical comparator inspection of the blade retention area, and a visual and magnetic particle inspection of the blade clamp. The repetitive inspection is required at intervals not to exceed 500 hours TIS or 60 calendar months, whichever occurs first, since last inspection.

(3) Thereafter, perform repetitive dye penetrant inspections of the blade internal bearing bore. This repetitive blade internal bearing bore inspection is required at intervals not to exceed 60 calendar months since last inspection.

(c) On Hartzell propeller models with hub models HC-A3VF-7( ) perform initial and repetitive inspections and, if necessary, replace with serviceable parts in accordance with Hartzell SB No. HC-SB-61-217, Revision 1, dated July 11, 1997, as follows:

(1) Initially perform a fluorescent dye penetrant and eddy current inspection of the blade, an optical comparator inspection of the blade retention area, a visual and magnetic particle inspection of the blade clamp, and a dye penetrant inspection of the blade internal bearing bore. The initial inspection is required within the following:

(i) 3,000 hours TSN for propellers that have never been overhauled and have less than 2,500 hours TSN on September 11, 1997, provided that the initial inspections are performed within 60 calendar months TSN or 24 calendar months after September 11, 1997, whichever calendar time occurs later, or

(ii) 3,000 hours TIS since last overhaul for propellers that have been overhauled but have less than 2,500 hours TIS since last overhaul on the September 11, 1997, provided that the initial inspections are performed within 60 calendar months TIS since last overhaul or 24 calendar months after September 11, 1997, whichever calendar time occurs later, or

(iii) 500 hours TIS, for propellers that have never been overhauled and have 2,500 or more hours TSN on September 11, 1997, or propellers which have been overhauled and have 2,500 or more hours TIS since last overhaul on September 11, 1997, or propellers with unknown TSN, provided that the initial inspections were performed within 24 calendar months after September 11, 1997.

(2) Thereafter, perform repetitive fluorescent dye penetrant and eddy current inspection of the blade, an optical comparator inspection of the blade retention area, and a visual and magnetic particle inspection of the blade clamp. The repetitive inspection is required at intervals not to exceed 3,000 hours TIS or 60 calendar months, whichever occurs first, since last inspection.

(3) Thereafter, perform repetitive dye penetrant inspections of the blade internal bearing bore. This repetitive blade internal bearing bore inspection is required at intervals not to exceed 60 calendar months since last inspection.

(d) The initial inspection of the internal blade bearing bore required by paragraphs (a)(1), (b)(1), or (c)(1) of this AD need not be done again if previously done in accordance with page 4 of Hartzell SB No. HC-SB-61-217, Revision 1, dated July 11, 1997.

(e) If not previously done, shot peen the propeller blade shank area during the initial inspection required by paragraphs (a)(1), (b)(1), or (c)(1) of this AD, as appropriate, and perform the shot peening in accordance with Hartzell SB No. HC-SB-61-217, Revision 1, dated July 11, 1997. Re-shot peening of the propeller blade shank area during the initial or repetitive inspections required by paragraphs (a)(1), (b)(1), or (c)(1) or (a)(2), (b)(2), or (c)(2) of this AD, as appropriate, is required only if the propeller blade shank area has been repaired or has excessive wear or damage in accordance with Hartzell SB No. HC-SB-61-217, Revision 1, dated July 11, 1997.

Reporting Requirements

(f) Report inspection results to the Manager, Chicago Aircraft Certification Office, FAA, Small Airplane Directorate, 2300 East Devon Ave., Des Plaines, IL 60018, within 15 working days of the inspection. Reporting requirements have been approved by the Office of Management and Budget (OMB) and assigned OMB control number 2120-0056.

Optional Terminating Action

(g) Replacement of affected propellers with, or modification to Hartzell Propeller Inc. model “MV” series propellers constitutes terminating action for the initial and repetitive inspections specified in paragraphs (a) through (e) of this AD. The Hartzell “MV” series of propellers were certified as Hartzell propeller models ( )HC-( )(2,3)MV( )-( ) and HA-A2MV20-1. Modification of affected propellers to “MV” series propellers must be done in accordance with Hartzell SB No.'s HC-SB-61-232, dated March 20, 1998, and HC-SB-61-233, dated April 17, 1998.

Alternative Methods of Compliance

(h) An alternative method of compliance or adjustment of the compliance time that provides an acceptable level of safety may be used if approved by the Manager, Chicago Aircraft Certification Office. The request should be forwarded through an appropriate FAA Maintenance Inspector, who may add comments and then send it to the Manager, Chicago Aircraft Certification Office. Compliance with Hartzell SB No. HC-SB-61-217, Revision 2, dated October 7, 1999, is an alternative method of compliance to Hartzell SB No. HC-SB-61-217, Revision 1.

Note 4: Information concerning the existence of approved alternative methods of compliance with this airworthiness directive, if any, may be obtained from the Chicago Aircraft Certification Office.

Special Flight Permits

(i) Special flight permits may be issued in accordance with §§ 21.197 and 21.199 of the Federal Aviation Regulations (14 CFR 21.197 and 21.199) to operate the aircraft to a location where the requirements of this AD can be done.

Issued in Burlington, Massachusetts, on December 24, 2002.
Jay J. Pardee,
Manager, Engine and Propeller Directorate, Aircraft Certification Service.

[FR Doc. 02-33074 Filed 12-31-02; 8:45 am]

BILLING CODE 4910-13-P